DEPARTMENT OF ENERGY

Federal Energy Regulatory Commission

[Docket No. RP00-282-000]

Williston Basin Interstate Pipeline Company; Notice of Tariff Filing

May 16, 2000.

Take notice that on May 11, 2000, Williston Basin Interstate Pipeline Company (Williston Basin), tendered for filing as part of its FERC Gas Tariff, Second Revised Volume No. 1, the following tariff sheets listed to become effective June 1, 2000:

Second Revised Sheet No. 260

Fifth Revised Sheet No. 261

First Revised Sheet No. 261A

Second Revised Sheet No. 262

First Revised Sheet No. 290

Second Revised Sheet No. 291

Second Revised Sheet No. 291A

Third Revised Sheet No. 292

Third Revised Sheet No. 293

Williston Basin states that the revised tariff sheets are being filed in compliance with the requirements of Commission Order No. 637 issued February 9, 2000 in Docket Nos. RM98-10-000 and RM98-12-000. Specifically, the changes proposed reflect revisions to applicable sections of Williston Basin's FERC Gas Tariff to remove the price cap for short-term capacity releases and to revise the applicability of right of first refusal to incorporate the requirements of the Commission's Order.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. protests will be considered by the Commission in determining the appropriate action to be taken, but will not serve to make protestants parties to the proceedings. Any person wishing to become a party must file a motion to intervene. Copies of this filing are on file with the Commission and are available for public inspection in the Public Reference Room. This filing may be viewed on the web at http://www.ferc. fed.us/online/rims.htm (call 202-208-2222 for assistance).

David P. Boergers,
Secretary.

[FR Doc. 00-12723 Filed 5-19-00; 8:45 am]

BILLING CODE 6717-01-M